DEPARTMENT OF ENERGY

Federal Energy Regulatory Commission

[Docket No. EL17-71-000]

DTE Electric Company; Notice of Institution of Section 206 Proceeding and Refund Effective Date

On June 7, 2017, a letter order was issued in Docket No. EL17-71-000 by the Director, Division of Electric Power—Central, Office of Energy Market Regulation, pursuant to section 206 of the Federal Power Act (FPA), 16 U.S.C. 824e (2012), instituting an investigation into whether the proposed rate decrease of DTE Electric Company associated with its cost-based revenue requirements for the provision of Reactive Supply and Voltage Control from Generation Sources Service in the Midcontinent Independent System Operator, Inc. region may be unjust, unreasonable, unduly discriminatory or preferential. DTE Electric Company, 159 FERC ¶ 62,251 (2017).

The refund effective date in Docket No. EL17-71-000, established pursuant to section 206(b) of the FPA, will be the date of publication of this notice in the Federal Register.

Any interested person desiring to be heard in Docket No. EL17-71-000 must file a notice of intervention or motion to intervene, as appropriate, with the Federal Energy Regulatory Commission, 888 First Street NE., Washington, DC 20426, in accordance with Rule 214 of the Commission's Rules of Practice and Procedure, 18 CFR 385.214, within 21 days of the date of issuance of the order.

Dated: June 7, 2017.
Kimberly D. Bose,
Secretary.

[FR Doc. 2017-12226 Filed 6-12-17; 8:45 am]

BILLING CODE 6717-01-P